NUCLEAR REGULATORY COMMISSION

Advisory Committee on Reactor Safeguards; Subcommittee Meeting on Severe Accident Management; Notice of Meeting

The ACRS Subcommittee on Severe Accident Management will hold a meeting on November 15, 2000, in Room T-2B3, 11545 Rockville Pike, Rockville, Maryland.

The agenda for the subject meeting shall be as follows:

Wednesday, November 15, 2000—8:30 a.m. until the conclusion of business

The Subcommittee will: (1) Continue its review of the NRC Office of Nuclear Regulatory Research severe accident management research program in accordance with the development of the ACRS annual report to the Commission on NRC safety research, and (2) continue review of the activities of the NRC staff and the nuclear industry under the auspices of the Nuclear Energy Institute (NEI) pursuant to revision of the NEI guideline document NEI, 99-03, “Control Room Habitability Assessment Guidance.” The purpose of this meeting is to gather information, analyze relevant issues and facts, and to formulate proposed positions and actions, as appropriate, for deliberation by the full Committee.

Oral statements may be presented by members of the public with the concurrence of the Subcommittee Chairman. Written statements will be accepted and made available to the Committee. Electronic recordings will be permitted only during those portions of the meeting that are open to the public, and questions may be asked only by members of the Subcommittee, its consultants, and staff. Persons desiring to make oral statements should notify the cognizant ACRS staff engineer named below five days prior to the meeting, if possible, so that appropriate arrangements can be made.

During the initial portion of the meeting, the Subcommittee, along with any of its consultants who may be present, may exchange preliminary views regarding matters to be considered during the balance of the meeting.

The Subcommittee will then hear presentations by and hold discussions with representatives of the Nuclear Energy Institute, the nuclear industry, the NRC staff, and other interested persons regarding this review.

Further information regarding topics to be discussed, whether the meeting has been canceled or rescheduled, the scheduling of sessions which are open to the public, and the Chairman's ruling on requests for the opportunity to present oral statements and the time allotted therefor, can be obtained by contacting the cognizant ACRS staff engineer, Mr. Paul A. Boehnert (telephone 301-415-8065) between 7:30 a.m. and 4:15 p.m. (EDT). Persons planning to attend this meeting are urged to contact the above named individual one or two working days prior to the meeting to be advised of any potential changes to the agenda, etc., that may have occurred.

Dated: October 12, 2000.
James E. Lyons,
Associate Director for Technical Support, ACRS/ACNW.

[FR Doc. 00-26993 Filed 10-19-00; 8:45 am]

BILLING CODE 7590-01-P